DEPARTMENT OF TRANSPORTATION

Federal Aviation Administration

14 CFR Part 39

[Docket No. FAA-2014-0291; Directorate Identifier 2013-NM-137-AD; Amendment 39-17972; AD 2014-19-04]

RIN 2120-AA64

Airworthiness Directives; Airbus Airplanes

AGENCY: Federal Aviation Administration (FAA), Department of Transportation (DOT).

ACTION: Final rule.

SUMMARY: We are superseding Airworthiness Directive (AD) 2004-03-19, which applies to certain Airbus Model A320-111, -211 and -231 series airplanes. AD 2004-03-19 required repetitive inspections for cracking in the transition and pick-up angles in the lower part of the center fuselage area, and corrective action if necessary. AD 2004-03-19 also provided for an optional terminating modification for the repetitive inspection requirements. This new AD requires accomplishing the modification by installing washers between the transition pick-up angle and the pin nuts, and doing related investigative and corrective actions if necessary. This new AD also adds airplanes to the applicability of AD 2004-03-19. This AD was prompted by a determination that the optional terminating modification must be required in order to address the unsafe condition. We are issuing this AD to prevent fatigue cracking in the transition and pick-up angles of the lower part of the center fuselage, which could result in reduced structural integrity of the wing-fuselage support and fuselage pressure vessel.

DATES: This AD becomes effective October 31, 2014.

The Director of the Federal Register approved the incorporation by reference of certain publications listed in this AD as of March 15, 2004 (69 FR 5922, February 9, 2004).

ADDRESSES: You may examine the AD docket on the Internet at http://www.regulations.gov/#!docketDetail;D=FAA-2014-0291; or in person at the Docket Management Facility, U.S. Department of Transportation, Docket Operations, M-30, West Building Ground Floor, Room W12-140, 1200 New Jersey Avenue SE., Washington, DC.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 to supersede AD 2004-03-19, Amendment 39-13463 (69 FR 5922, February 9, 2004). AD 2004-03-19 applied to certain Airbus Model A320-111, -211, and -231 series airplanes. The NPRM published in the Federal Register on May 30, 2014 (79 FR 31057). The NPRM was prompted by a determination that the optional terminating modification must be required in order to address the unsafe condition. The NPRM proposed to require repetitive inspections for cracking in the transition and pick-up angles in the lower part of the center fuselage area, and corrective action if necessary. The NPRM also proposed to require a terminating modification for the repetitive inspection requirements. The NPRM also proposed to add airplanes to the applicability. We are issuing this AD to prevent fatigue cracking in the transition and pick-up angles of the lower part of the center fuselage, which could result in reduced structural integrity of the wing-fuselage support and fuselage pressure vessel.

The European Aviation Safety Agency (EASA), which is the Technical Agent for the Member States of the European Community, has issued EASA Airworthiness Directive 2013-0137, dated July 9, 2013 (referred to after this as the Mandatory Continuing Airworthiness Information, or “the MCAI”), to correct an unsafe condition for certain Airbus Model A320-111, -211, and -231 series airplanes. The MCAI states:

During the A320 fatigue test campaign, it has been determined that fatigue damage could appear on the transition and pick-up angle between Frame (FR) 35 and FR36.

This condition, if not detected and corrected, could affect the structural integrity of the aeroplane.

To address this potential unsafe condition, DGAC [Direction Générale de l'Aviation Civile] France issued AD 2002-183 [related to FAA AD 2004-03-19, Amendment 39-13463 (69 FR 5922, February 9, 2004)], to require repetitive inspections of the center fuselage pick-up angle between FR35 and FR36, below stringer 30, left hand (LH) and right hand (RH) sides, and, depending on findings, accomplishment of applicable corrective action(s).

Since that [DGAC] AD [2002-183] was issued, a modification was developed, which has been published through Airbus Service Bulletin (SB) A320-53-1027 for in-service application, introducing additional washers below the riveting, which constitutes terminating action for the repetitive inspections.

For the reasons described above, this [EASA] AD retains the requirements of DGAC France AD 2002-183, which is superseded, and requires modification of the transition and pick-up angle between FR35 and FR36.

You may examine the MCAI in the AD docket on the Internet at http://www.regulations.gov/#!documentDetail;D=FAA-2014-0291-0002.

Comments

We gave the public the opportunity to participate in developing this AD. We received no comments on the NPRM (79 FR 31057, May 30, 2014) or on the determination of the cost to the public.

“Contacting the Manufacturer” Paragraph in this AD

Since late 2006, we have included a standard paragraph titled “Airworthy Product” in all MCAI ADs in which the FAA develops an AD based on a foreign authority's AD.

The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (79 FR 11016, February 27, 2014), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, for certain new requirements, we proposed to change the phrase “its delegated agent” to include a design approval holder (DAH) with State of Design Authority design organization approval (DOA), as applicable, to refer to a DAH authorized to approve required repairs for the proposed AD.

No comments were provided to the NPRM (79 FR 11016, February 27, 2014) about these proposed changes. However, a comment was provided for an NPRM having Directorate Identifier 2012-NM-101-AD (78 FR 78285, December 26, 2013). The commenter stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, the European Aviation Safety Agency (EASA), or Airbus's EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Other commenters to the NPRM having Directorate Identifier 2012-NM-101-AD (78 FR 78285, December 26, 2013) pointed out that in many cases the foreign manufacturer's service bulletin and the foreign authority's MCAI might have been issued some time before the FAA AD. Therefore, the DOA might have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement that the DAH-provided repair specifically refer to this AD. Before adopting such a requirement, the FAA will coordinate with affected DAHs and verify they are prepared to implement means to ensure that their repair approvals consider the unsafe condition addressed in this AD. Any such requirements will be adopted through the normal AD rulemaking process, including notice-and-comment procedures, when appropriate.

We also have decided not to include a generic reference to either the “delegated agent” or “DAH with State of Design Authority design organization approval,” but instead we have provided the specific delegation approval granted by EASA for the DAH.

Conclusion

We reviewed the relevant data and determined that air safety and the public interest require adopting this AD with the changes described previously and minor editorial changes. We have determined that these minor changes:

• Are consistent with the intent that was proposed in the NPRM (79 FR 31057, May 30, 2014) for correcting the unsafe condition; and

• Do not add any additional burden upon the public than was already proposed in the NPRM (79 FR 31057, May 30, 2014).

We also determined that these changes will not increase the economic burden on any operator or increase the scope of this AD.

Costs of Compliance

We estimate that this AD affects 482 airplanes of U.S. registry.

We estimate the following costs to comply with this AD:

Estimated Costs
Action | Labor cost | Parts cost | Cost per product | Cost on U.S. operators
Inspection [retained action from AD 2004-03-19, Amendment 39-13463 (69 FR 5922, February 9, 2004)] | 9 work-hours × $85 per hour = $765 per inspection cycle | $0 | $765 per inspection cycle | $18,360 per inspection cycle (24 airplanes).
Inspection for Model A320-212 airplanes [new action] | 9 work-hours × $85 per hour = $765 per inspection cycle | $0 | $765 per inspection cycle | $32,130 per inspection cycle (42 airplanes).
Terminating modification [new action] | 28 work-hours × $85 per hour = $2,380 | $1,837 | $4,217 | $2,032,594.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0291; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2004-03-19, Amendment 39-13463 (69 FR 5922, February 9, 2004), and adding the following new AD:

2014-19-04 Airbus: Amendment 39-17972. Docket No. FAA-2014-0291; Directorate Identifier 2013-NM-137-AD.

(a) Effective Date

This AD becomes effective October 31, 2014.

(b) Affected ADs

This AD replaces AD 2004-03-19, Amendment 39-13463 (69 FR 5922, February 9, 2004).

(c) Applicability

This AD applies to Airbus Model A320-111, -211, -212, and -231 airplanes, certificated in any category, all manufacturer serial numbers.

(d) Subject

Air Transport Association (ATA) of America Code 53, Fuselage.

(e) Reason

This AD was prompted by the determination that the modification must be accomplished in order to address the unsafe condition. We are issuing this AD to prevent fatigue cracking in the transition and pick-up angles of the lower part of the center fuselage, which could result in reduced structural integrity of the wing-fuselage support and fuselage pressure vessel.

(f) Compliance

Comply with this AD within the compliance times specified, unless already done.

(g) Retained Detailed and Rotating Probe Inspections

This paragraph restates the requirements of paragraph (b) of AD 2004-03-19, Amendment 39-13463 (69 FR 5922, February 9, 2004). For Model A320-111, -211, and -231 airplanes on which the modification specified in AD 98-12-18, Amendment 39-10573 (63 FR 31345, June 9, 1998), has not been done: Do the applicable inspections specified in paragraphs (g)(1) and (g)(2) of this AD, in accordance with the Accomplishment Instructions of Airbus Service Bulletin A320-53-1028, Revision 01, dated February 12, 2002.

(1) For airplanes on which the inspections required by AD 98-12-18, Amendment 39-10573 (63 FR 31345, June 9, 1998), have been done: Within 12,000 flight cycles after accomplishment of the last inspection required by AD 98-12-18, do a detailed inspection of the transition angle and a rotating probe inspection of the pick-up angle in the lower part of the center fuselage area for cracking.

(2) For airplanes on which the inspections required by AD 98-12-18, Amendment 39-10573 (63 FR 31345, June 9, 1998), have not been done: At the later of the times specified in paragraphs (g)(2)(i) and (g)(2)(ii) of this AD, do a detailed inspection of the transition angle and a rotating probe inspection of the pick-up angle in the lower part of the center fuselage area for cracking.

(i) Before the accumulation of 10,400 total flight cycles, or 24,600 total flight hours, whichever is first.

(ii) Before the accumulation of 16,000 total flight cycles, or within 3,500 flight cycles after March 15, 2004 (the effective date of AD 2004-03-19, Amendment 39-13463 (69 FR 5922, February 9, 2004), whichever is first.

(h) Retained Repetitive Inspections

This paragraph restates the requirements of paragraph (c) of AD 2004-03-19, Amendment 39-13463 (69 FR 5922, February 9, 2004). For Model A320-111, -211, and -231 airplanes: Repeat the detailed and rotating probe inspections specified in paragraphs (g)(1) and (g)(2) of this AD at intervals not to exceed 10,400 flight cycles or 24,600 flight hours, whichever is first, until the modification specified in paragraph (m) of this AD has been done.

(i) Retained Corrective Action for Paragraphs (g) and (h) of This AD

This paragraph restates the requirements of paragraph (d) of AD 2004-03-19, Amendment 39-13463 (69 FR 5922, February 9, 2004), with specific delegation approval language. For Model A320-111, -211, and -231 airplanes: If any cracking is found during any inspection required by paragraph (g) or (h) of this AD, prior to further flight, either repair the cracking per the Accomplishment Instructions of Airbus Service Bulletin A320-53-1028, Revision 01, dated February 12, 2002; or do the modification specified in paragraph (m) of this AD. Where Airbus Service Bulletin A320-53-1028, Revision 01, dated February 12, 2002, specifies to contact the manufacturer for repair instructions, prior to further flight, repair the cracking in accordance with a method approved by the Manager, International Branch, ANM-116, Transport Airplane Directorate, FAA; or the European Aviation Safety Agency (EASA); or Airbus's EASA Design Organization Approval (DOA); or the Direction Générale de l'Aviation Civile (or its delegated agent). If the cracking is repaired, repeat the inspections as required by paragraph (h) of this AD.

(j) New Detailed and Rotating Probe Inspections for Model A320-212 Airplanes

For Model A320-212 airplanes on which the modification specified in Airbus Service Bulletin A320-53-1027 has not been done as of the effective date of this AD: Do the applicable inspections specified in paragraph (j)(1) or (j)(2) of this AD, in accordance with the Accomplishment Instructions of Airbus Service Bulletin A320-53-1028, Revision 01, dated February 12, 2002.

(1) For airplanes on which the inspections specified in Airbus Service Bulletin A320-53-1028 have been done as of the effective date of this AD: At the later of the times specified in paragraphs (j)(1)(i) and (j)(1)(ii) of this AD, do a detailed inspection of the transition angle and a rotating probe inspection of the pick-up angle in the lower part of the center fuselage area for cracking.

(i) Within 10,400 flight cycles or 24,600 flight hours, whichever occurs first after accomplishing the most recent inspection specified in Airbus Service Bulletin A320-53-1028.

(ii) Within 90 days after the effective date of this AD.

(2) For airplanes on which the inspections specified in Airbus Service Bulletin A320-53-1028 have not been done as of the effective date of this AD: At the later of the times specified in paragraphs (j)(2)(i) and (j)(2)(ii) of this AD, do a detailed inspection of the transition angle and a rotating probe inspection of the pick-up angle in the lower part of the center fuselage area for cracking.

(i) Before the accumulation of 10,400 total flight cycles, or 24,600 total flight hours, whichever occurs first.

(ii) Within 90 days after the effective date of this AD.

(k) New Repetitive Inspections for Model A320-212 Airplanes

For Model A320-212 airplanes: Repeat the detailed and rotating probe inspections specified in paragraphs (j)(1) and (j)(2) of this AD at intervals not to exceed 10,400 flight cycles or 24,600 flight hours, whichever occurs first, until the modification specified in paragraph (m) of this AD has been done.

(l) New Corrective Action for Model A320-212 Airplanes

For Model A320-212 airplanes: If any cracking is found during any inspection required by paragraph (j) or (k) of this AD, before further flight, do the actions specified in either paragraph (l)(1) or (l)(2) of this AD.

(1) Repair the crack in accordance with the Accomplishment Instructions of Airbus Service Bulletin A320-53-1028, Revision 01, dated February 12, 2002, except where Airbus Service Bulletin A320-53-1028, Revision 01, dated February 12, 2002, specifies to contact the manufacturer, before further flight, repair using a method approved by the Manager, International Branch, ANM-116, Transport Airplane Directorate, FAA; or the European Aviation Safety Agency (EASA); or Airbus's EASA Design Organization Approval (DOA). After the cracking is repaired, repeat the inspections required by paragraph (k) of this AD.

(2) Do the modification specified in paragraph (m) of this AD.

(m) New Terminating Modification for All Airplanes

For all airplanes: Before the accumulation of 40,000 flight cycles since first flight, or within 1,500 flight cycles after the effective date of this AD, whichever occurs later, but not exceeding 48,000 flight cycles since first flight, modify by doing rotating probe inspections for cracking of certain fastener holes, replacing transition angles if any cracking is found in the transition angles, repairing if any pick-up angles cracking is found, and installing washers between the transition pick-up angle and the pin nuts; in accordance with the Accomplishment Instructions of Airbus Service Bulletin A320-53-1027, Revision 03, dated February 12, 2002, except where Airbus Service Bulletin A320-53-1027, Revision 03, dated February 12, 2001, specifies to contact Airbus, before further flight, repair using a method approved by the Manager, International Branch, ANM-116, Transport Airplane Directorate, FAA; or the European Aviation Safety Agency (EASA); or Airbus's EASA Design Organization Approval (DOA). Accomplishment of this modification terminates the repetitive inspections required by paragraphs (h) and (k) of this AD.

(n) Terminating Modification

For airplanes on which Airbus Modification 21202 has been embodied in production: No actions are required by this AD.

(o) Credit for Previous Actions

(1) This paragraph provides credit for the actions required by paragraph (j) of this AD, if those actions were performed before the effective date of this AD using Airbus Service Bulletin A320-53-1028, dated March 1, 1994, which was incorporated by reference in AD 98-12-18, Amendment 39-10573 (63 FR 31345, June 9, 1998).

(2) This paragraph provides credit for the action specified in paragraph (m) of this AD, if that action was performed before the effective date of this AD using the service information specified in paragraph (o)(2)(i), (o)(2)(ii), or (o)(2)(iii) of this AD, which is not incorporated by reference in this AD.

(i) Airbus Service Bulletin A320-53-1027, dated March 1, 1994.

(ii) Airbus Service Bulletin A320-53-1027, Revision 1, dated September 5, 1994.

(iii) Airbus Service Bulletin A320-53-1027, Revision 2, dated June 8, 1995 (which was incorporated by reference in AD 98-12-18, Amendment 39-10573 (63 FR 31345, June 9, 1998)).

(p) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously in accordance with AD 2004-03-19, Amendment 39-13463 (69 FR 5922, February 9, 2004), are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(q) Related Information

(1) Refer to Mandatory Continuing Airworthiness Information (MCAI) European Aviation Safety Agency Airworthiness Directive 2013-0137, dated July 9, 2013, for related information. You may examine the MCAI in the AD docket on the Internet at http://www.regulations.gov/#!documentDetail;D=FAA-2014-0291-0002.

(2) Service information identified in this AD that is not incorporated by reference in this AD is available at the addresses specified in paragraphs (r)(4) and (r)(5) of this AD.

(r) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 15, 2004 (69 FR 5922, February 9, 2004).

(i) Airbus Service Bulletin A320-53-1027, Revision 03, dated February 12, 2002.

(ii) Airbus Service Bulletin A320-53-1028, Revision 01, dated February 12, 2002.

(4) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on September 12, 2014.
Jeffrey E. Duven,
Manager, Transport Airplane Directorate, Aircraft Certification Service.

[FR Doc. 2014-22469 Filed 9-25-14; 8:45 am]

BILLING CODE 4910-13-P